DEPARTMENT OF TRANSPORTATION

Federal Highway Administration

Environmental Impact Statement: Somerset County, Pennsylvania

AGENCY: Federal Highway Administration (FHWA), DOT.

ACTION: Notice of intent.

SUMMARY: The FHWA is issuing this notice to advise the public that an Environmental Impact Statement will be prepared for a proposed highway project in Somerset County, Pennsylvania.

FOR FURTHER INFORMATION CONTACT: David W. Cough, P.E., Director of Operations, Federal Highway Administration, Pennsylvania Division Office, 228 Walnut Street, Harrisburg, PA 17101-1720, (717) 221-3411 or David L. Sherman, P.E., Project Manager, Pennsylvania Department of Transportation, District 9-0, 1620 North Juniata Street, Hollidaysburg, Pennsylvania, 16648, (814) 696-7172.

SUPPLEMENTARY INFORMATION: The FHWA, in cooperation with the Pennsylvania Department of Transportation (PennDOT), will prepare an Environmental Impact Statement (EIS) to identify and evaluate alternatives for the transportation improvement of a 15.2 mile section of U.S. 219 between the northern terminus of the Meyersdale Bypass (upgraded U.S. 219) and the existing four-lane section of U.S. 219 near the Borough of Somerset, Pennsylvania. A partial realignment of the last mile of the existing four-lane section of U.S. 219 near Somerset may also be considered. Included in the overall project will be the identification of a range of alternatives that meet the project need and supporting environmental documentation and analysis to recommend a preferred alternative for implementation. A complete public involvement program is part of the project.

Based on a needs analysis completed in 1999, improvements to U.S. 219 are needed between Somerset, Pennsylvania and I-68 in Maryland based on deficient levels of service for most roadway segments; accident rates higher than the statewide average; geometric features which do not meet current design standards; increased travel times and delays; less efficient system linkage for motorists traveling between the four-lane section of U.S. 219 or the PA Turnpike (I-70/76) in Somerset and I-68 in Maryland; insufficient access to local communities; and significant contributing factor in limiting economic development.

Possible alternatives to the proposed project include: no build; transportation system management (TSM); relocation to the eastern portion of the study area, west of Berlin; relocation to the west in the vicinity of the Garrett Shortcut; and one additional alternative not yet defined. These alternatives will be the basis for a recommendation of alternative to be carried forward for detailed environmental and engineering studies in the EIS. Incorporated into and studied with the various alternatives will be design variations of grade and alignment.

Letters describing the proposed action and soliciting comments will be sent to appropriate federal, state, and local agencies, and to private organizations and citizens who have previously expressed or are known to have interest in this proposal. Public meetings will be held in the area throughout the study process. Public involvement and agency coordination will be maintained throughout the development of the EIS.

To ensure that the full range of issues related to the proposed action are addressed and all significant issues are identified, comments and suggestions are invited from all interested parties. Comments or questions concerning this proposed action and the EIS should be directed to PennDOT at the address provided above.

(Catalog of Federal Domestic Assistance Program Number 20.205, Highway Planning and Construction. The regulation implementing Executive Order 12372 regarding intergovernmental consultation on Federal programs and activities apply to this program).
James A. Cheatham,
FHWA Division Administrator, Harrisburg, PA.

[FR Doc. 01-10304 Filed 4-25-01; 8:45 am]

BILLING CODE 4910-22-M